DEPARTMENT OF TRANSPORTATION

Federal Aviation Administration

Draft Air Tour Management Plan (ATMP) and Draft Environmental Assessment (EA); Notice of Public Meeting

AGENCY: Federal Aviation Administration (FAA), Department of Transportation (DOT).

ACTION: Notice of availability and public meeting.

SUMMARY: The FAA, in cooperation with the National Park Service (NPS), has initiated development of an ATMP for Bandelier National Monument (the Park) pursuant to the National Parks Air Tour Management Act of 2000 and its implementing regulations. This notice announces the public availability of the draft ATMP and draft EA for comment and the date of the public meeting for the Park in accordance with National Parks Air Tour Management Act of 2000 and National Environmental Policy Act (NEPA) of 1969. The purpose of the public meeting is to review the draft ATMP with the public. The draft ATMP provides acceptable and effective measures to mitigate or prevent the significant adverse impacts, if any, of commercial air tour operations upon the Park's natural and cultural resources and visitor experiences, as well as on tribal lands. In accordance with Section 106 of the National Historic Preservation Act, the FAA and the NPS are also seeking public comment on the potential of the draft ATMP to cause adverse effects to historic properties.

DATES:

Comment Period

Comments must be received on or before August 11, 2023, by 11:59 MDT. Comments will be received on the NPS Planning, Environment and Public Comment System (PEPC) website. The Park's website link is https://parkplanning.nps.gov/BandelierATMP.

Before including your address, phone number, email address, or other personal identifying information in your comment, be advised that your entire comment—including your personal identifying information—may be made publicly available at any time. While you can ask in your comment to withhold from public review your personal identifying information, we cannot guarantee that we will be able to do so.

Public Meeting Date

The meeting will be held virtually at the date and time listed below. Questions will be accepted during the public meeting through a separate form. The link for the question form is provided below. Questions submitted for the public meeting are not considered an official comment as part of the public comment period. Attendees are encouraged to submit their comments for the official record via the link provided in the Comment Period Dates section.

• Tuesday, July 25, 2023, from 5:30 p.m.-7:00 p.m. MDT

• Meeting Livestream: https://www.youtube.com/watch?v=yDJdlvGTWFs

• Submit questions for the meeting: https://forms.gle/qzyhAWKCmV8eEWuG6

ADDRESSES: The meetings will be held virtually. Members of the public who wish to participate in the virtual meetings can access the live meeting through the link provided in this notice on the day of the event. The meeting link will also be available at Air Tour Management Plan | Federal Aviation Administration (faa.gov) and on the NPS PEPC website for the Park.

Contact: Any request for reasonable accommodation related to providing public comments on the draft ATMP or draft EA should be sent to the person listed on the Park's PEPC sites. The U.S. Department of Transportation and U.S. Department of the Interior are committed to providing equal access to the meetings for all participants. If you need alternative formats or services because of a disability, such as sign language, interpretation, or other ancillary aids, please contact the person listed in the FOR FURTHER INFORMATION CONTACT section.

FOR FURTHER INFORMATION CONTACT: Sandra Fox, (202) 267-0928, Sandra.Y.Fox@faa.gov.

SUPPLEMENTARY INFORMATION: The FAA is issuing this notice pursuant to the National Parks Air Tour Management Act of 2000 (Pub. L. 106-181) and its implementing regulations contained in Title 14, Code of Federal Regulations (CFR) Part 136, Subpart B, National Parks Air Tour Management and the National Environmental Policy Act (NEPA) of 1969 and the Council of Environmental Quality NEPA Implementing Regulations (40 CFR parts 100-1508). The objectives of the ATMP are to develop acceptable and effective measures to mitigate or prevent the significant adverse impacts, if any, of commercial air tour operations upon the natural resources, cultural resources, and visitor experiences of the Parks as well as on tribal lands. The FAA and the NPS are inviting comment from the public, Federal and state agencies, tribes, and other interested parties on the draft ATMP and draft EA for Bandelier National Monument.

The FAA and the NPS have determined that the ATMP constitutes a Federal undertaking subject to compliance with Section 106 of the National Historic Preservation Act and its implementing regulations (36 CFR part 800). The FAA and the NPS have consulted with tribes, State and Tribal Historic Preservation Officers, and other interested parties to identify historic properties and assess the potential effects of the ATMP on them.

The meetings will be open to the public. Members of the public who wish to observe the virtual meetings can access the livestream from the link and websites provided in this notice.

The FAA and the NPS request that comments be as specific as possible in response to the draft ATMP and draft EA. All written comments become part of the official record. Written comments on the draft ATMP and draft EA can be submitted via PEPC or sent to the mailing addresses provided on the Park's PEPC sites. Comments will not be accepted by fax, email, or any other way than those specified above.

Issued in Washington, DC, on July 7, 2023.
Sandra Fox,
Environmental Protection Specialist, FAA Office of Environment & Energy.

[FR Doc. 2023-14715 Filed 7-11-23; 8:45 am]

BILLING CODE 4910-13-P